DEPARTMENT OF ENERGY

Federal Energy Regulatory Commission

Notice of Teleconference

| Project Nos.
Clean River Power MR-3, LLC | P-13404-002
Clean River Power MR-1, LLC | P-13405-002
Clean River Power MR-5, LLC | P-13406-002
Clean River Power MR-2, LLC | P-13407-002
Clean River Power MR-7, LLC | P-13408-002
Clean River Power MR-6, LLC | P-13411-002

a. Project Names and Numbers: Beverly Lock and Dam Water Power Project No. 13404, Devola Lock and Dam Water Power Project No. 13405, Malta/McConnelsville Lock and Dam Water Power Project No. 13406, Lowell Lock and Dam Water Power Project No. 13407, Philo Lock and Dam Water Power Project No. 13408, and Rokeby Lock and Dam Water Power Project No. 13411 (Muskingum River Projects).

b. Date and Time of Meeting: Thursday, November 19, 2015 at 1:00 p.m. (Eastern Standard Time).

c. FERC Contact: Aaron Liberty, Phone: (202) 502-6862, Email: aaron.liberty@ferc.gov.

d. Purpose of Meeting: To discuss the U.S. Fish and Wildlife Service's (FWS) responses to Commission staff's determinations of effect for federally listed species described in the Multi-Project Environmental Assessment for Hydropower License, for the proposed Muskingum River Projects, issued on August 27, 2015, and Commission staff's letter to the FWS, issued on October 16, 2015.

e. All local, state, and federal agencies, Indian tribes, and other interested parties are invited to participate by phone. Please call Aaron Liberty at (202) 502-6862 by Tuesday, November 12, 2015, to RSVP and to receive specific instructions on how to participate.

Dated: October 30, 2015.
Nathaniel J. Davis, Sr.,
Deputy Secretary.

[FR Doc. 2015-28203 Filed 11-4-15; 8:45 am]

BILLING CODE 6717-01-P